DEPARTMENT OF COMMERCE

National Oceanic and Atmospheric Administration

[I.D. 070104G]

Marine Mammals; File No. 116-1729

AGENCY: National Marine Fisheries Service (NMFS), National Oceanic and Atmospheric Administration (NOAA), Commerce.

ACTION: Issuance of permit.

SUMMARY: Notice is hereby given that Sea World, Inc., 7007 Sea World Drive, Orlando, Florida 32821, has been issued a permit to import one beluga whale (Delphinapterus leucas) and one Commerson's dolphin (Cephalorhynchus commersonii) for the purposes of public display.

ADDRESSES: The permit and related documents are available for review upon written request or by appointment in the following office(s):

Permits, Conservation and Education Division, Office of Protected Resources, NMFS, 1315 East-West Highway, Room 13705, Silver Spring, MD 20910; phone (301)713-2289; fax (301)713-0376;

Southwest Region, NMFS, 501 West Ocean Blvd., Suite 4200, Long Beach, CA 90802-4213; phone (562)980-4001; fax (562)980-4018;

FOR FURTHER INFORMATION CONTACT: Jennifer Skidmore or Jill Lewandowski, (301)713-2289.

SUPPLEMENTARY INFORMATION: On January 29, 2004, notice was published in the Federal Register (69 FR 4293) that a request for a public display permit to import one male, adult beluga whale and one male, adult Commerson's dolphin from the Duisburg Zoo, Germany to Sea World of California in San Diego, California. The requested permit has been issued under the authority of the Marine Mammal Protection Act of 1972, as amended (16 U.S.C. 1361 et seq.), and the Regulations Governing the Taking and Importing of Marine Mammals (50 CFR part 216).

In compliance with the National Environmental Policy Act of 1969 (42 U.S.C. 4321 et seq.), a final determination has been made that the activity proposed is categorically excluded from the requirement to prepare an environmental assessment or environmental impact statement.

Dated: July 23, 2004.
Stephen L. Leathery,
Chief, Permits, Conservation and Education Division, Office of Protected Resources, National Marine Fisheries Service.

[FR Doc. 04-17318 Filed 7-28-04; 8:45 am]

BILLING CODE 3510-22-S